NATIONAL FOUNDATION ON THE ARTS AND THE HUMANITIES

National Endowment for the Arts; Arts Advisory Panel

Pursuant to Section 10(a)(2) of the Federal Advisory Committee Act (Pub. L. 92-463), as amended, notice is hereby given that 20 meetings of the Arts Advisory Panel to the National Council on the Arts will be held by teleconference from the Nancy Hanks Center, 1100 Pennsylvania Avenue, NW., Washington, DC 20506. These are closed meetings to review applications for funding under the American Recovery and Reinvestment Act of 2009 as follows (ending times are approximate):

Local Arts Agencies (direct grants): May 18, 2009, from 3 p.m. to 4:30 p.m.

Literature: May 19, 2009, from 4 p.m. to 4:45 p.m.

Literature: May 19, 2009, from 4:45 p.m. to 5:30 p.m.

Visual Arts: May 19, 2009, from 1 p.m. to 2 p.m.

Visual Arts: May 19, 2009, from 3 p.m. to 4 p.m.

Design: May 20, 2009, from 1 p.m. to 2 p.m.

Folk and Traditional Arts: May 20, 2009, from 1 p.m. to 1:45 p.m.

Folk and Traditional Arts: May 20, 2009, from 1:45 p.m. to 2:30 p.m.

Museums: May 20, 2009, from 1 p.m. to 2 p.m.

Museums: May 20, 2009, from 3 p.m. to 4 p.m.

Musical Theater: May 20, 2009, from 1 p.m. to 2 p.m.

Dance: May 20, 2009, from 3 p.m. to 4 p.m.

Dance: May 20, 2009, from 4 p.m. to 5 p.m.

Media Arts: May 21, 2009, from 11 a.m. to 12 p.m.

Media Arts: May 21, 2009, from 2 p.m. to 3 p.m.

Presenting/Artist Communities: May 21, 2009, from 4 p.m. to 5 p.m.

Theater: May 21, 2009, from 2 p.m. to 3 p.m.

Theater: May 22, 2009, from 2 p.m. to 3 p.m.

Arts Education: May 22, 2009, from 2 p.m. to 4:20 p.m.

Presenting/Artist Communities: May 27, 2009, from 4 p.m. to 5 p.m.

Additionally, one meeting will be held at the Nancy Hanks Center, 1100 Pennsylvania Avenue, NW., Washington, DC 20506, as follows (ending time is approximate):

Local Arts Agencies (subgranting): May 19-20, 2009. This meeting, from 9 a.m. to 5:30 p.m. on May 19th and from 9 a.m. to 3 p.m. on May 20th, will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202-682-5532, TDY-TDD 202-682-5496, at least seven (7) days prior to the meeting.

Further information with reference to these meetings can be obtained from Ms. Kathy Plowitz-Worden, Office of Guidelines & Panel Operations, National Endowment for the Arts, Washington, DC 20506, or call 202-682-5691.

Dated: April 28, 2009.
Kathy Plowitz-Worden,
Panel Coordinator, Panel Operations, National Endowment for the Arts.

[FR Doc. E9-10067 Filed 4-30-09; 8:45 am]

BILLING CODE 7537-01-P